DEPARTMENT OF JUSTICE

Notice of Lodging of Proposed; Amended Consent Decree Under the Clean Air Act

On February 3, 2020, the Department of Justice lodged a proposed Amended Consent Decree with the United States District Court for the Western District of Arkansas in the lawsuit entitled United States, et al. v. Georgia Pacific Chemicals LLC, Georgia Pacific Consumer Operations LLC, Case No. 1:18-cv-01076-SOH.

The proposed Amended Consent Decree resolves the United States' and the Arkansas Department of Environmental Quality's (“ADEQ”) claims under Sections 113(b)(2) and 112(r) of the Clean Air Act (“CAA”), 42 U.S.C. 7413(b)(2) and 7412(r), as well as Arkansas Code Annotated §§ 8-4-103 et seq., that Settling Defendants violated the New Source Performance Standards, National Emission Standards for Hazardous Air Pollutants and the Chemical and Accident Prevention Provisions for Air Programs at their chemical and paper/pulp plants located in Crossett, Arkansas. Under the proposed Amended Consent Decree, which amends the Consent Decree that was lodged originally on December 14, 2018, Settling Defendants have agreed to pay a penalty of $600,000, and implement three substitute Supplemental Environmental Projects valued at $1.8 million to resolve the governments' claims.

The publication of this notice opens a period for public comment on the Consent Decree. Comments should be addressed to the Assistant Attorney General, Environment and Natural Resources Division, and should refer to Georgia Pacific Chemicals LLC, Georgia Pacific Consumer Operations LLC, Case No. 1:18-cv-01076-SOH, D.J. Ref. No. 90-5-2-1-11705. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $13.75 (25 cents per page reproduction cost) payable to the United States Treasury.

Thomas Carroll,
Assistant Section Chief, Environmental Enforcement Section, Environment and Natural Resources Division.

[FR Doc. 2020-02419 Filed 2-6-20; 8:45 am]

BILLING CODE 4410-15-P